GENERAL SERVICES ADMINISTRATION

[OMB Control No. 3090-0325; Docket No. 2024-0001; Sequence No. 16]

Submission for OMB Review; Improving Customer Experience (OMB Circular A-11, Section 280 Implementation)

AGENCY: General Services Administration (GSA).

ACTION: Notice; request for comment.

SUMMARY: The General Services Administration (GSA) has under OMB review the following proposed Information Collection Request “Improving Customer Experience (OMB Circular A-11, Section 280 Implementation)” for approval under the Paperwork Reduction Act (PRA).

DATES: Submit comments on or before May 7, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: Requests for additional information should be directed to Nicole Bynum, Regulatory Program Specialist, at 202-501-4755, or email to GSARegSec@gsa.gov.

SUPPLEMENTARY INFORMATION:

A. Purpose

Title: Improving Customer Experience (OMB Circular A-11, Section 280 Implementation).

Abstract: Under the Government Service Delivery Improvement (GSDI) Act ¹ and the 21st Century Integrated Digital Experience Act,² along with OMB guidance, agencies are obligated to continually improve the services they provide the public and to collect qualitative and quantitative data from the public to do so.

¹ 5 U.S.C. 321-24.

² 44 U.S.C. 3501 note.

The purpose of this request is to facilitate the General Service Administration's (hereafter “the Agency's”) ability to collect feedback from the public to continue to improve its services, thereby facilitating its compliance with statutory requirements and general principles of good governance. GSA will only submit collections if they meet the following criteria.

• The collections are voluntary;

• The collections are low-burden for respondents (based on considerations of total burden hours or burden-hours per respondent) and are low-cost for both the respondents and the Federal Government;

• The collections are non-controversial;

• Any collection is targeted to the solicitation of opinions from respondents who have experience with the program or may have experience with the program in the near future;

• Personally identifiable information (PII) is collected only to the extent necessary and is not retained;

• Information gathered is intended to be used for general service improvement and program management purposes

• The agency will follow the procedures specified in any relevant OMB guidance for the required reporting to OMB of data from surveys.

• Outside of the reporting mentioned in the bullet immediately above, if the Agency intends to release journey maps, user personas, reports, or other data-related summaries stemming from this collection, the Agency must include appropriate caveats around those summaries, noting that conclusions should not be generalized beyond the sample, considering the sample size and response rates. The Agency must submit the data summary itself (e.g., the report) and the caveat language mentioned above to OMB before it releases them outside the Agency. OMB will engage in a pass back process with the agency.

Type of Review: Renewal of an existing collection.

Affected Public: Individuals and Households, Businesses and Organizations, State, Local or Tribal Government.

B. Annual Reporting Burden

Estimated Number of Respondents: Below is an estimate of the aggregate burden hours for this new collection.

Average Expected Annual Number of Activities: Four types, namely: Screeners (e.g., distributed before or during a usability testing session or other kind of session); Question script for focus group, interview group, etc., though scripts for usability testing sessions are exempt; Surveys to obtain feedback immediately following a transaction—Limited to 15 questions and 5 minutes max; Other surveys.

Average Number of Respondents per Activity: 1 response per respondent per activity.

Annual Responses: 1,101,500.

Average Minutes per Response: 3 minutes-90 minutes, dependent upon activity.

Burden Hours: GSA requests 100,800 burden hours.

C. Public Comments

A 60-day notice was published in the Federal Register at 89 FR 101603 on December 16, 2024. No public comments were received.

Obtaining Copies: Requesters may obtain a copy of the information collection documents from the GSA Regulatory Secretariat Division, by emailing GSARegSec@gsa.gov.

Lois Mandell,
Director, Regulatory Secretariat Division, General Services Administration.

[FR Doc. 2025-05949 Filed 4-4-25; 8:45 am]

BILLING CODE P